JUDICIAL CONFERENCE OF THE UNITED STATES

Hearings on Proposed Amendments to the Appellate, Bankruptcy, Civil, and Evidence Rules; Correction

AGENCY: Advisory Committees on the Federal Rules of Appellate, Bankruptcy, and Civil Procedure, and the Federal Rules of Evidence, Judicial Conference of the United States.

ACTION: Notice of proposed amendments and open hearings; correction.

SUMMARY: The Advisory Committees on Appellate, Bankruptcy, Civil, and Evidence Rules published a document in the Federal Register on August 9, 2018, concerning the proposed amendments to the Federal Rules of Appellate, Bankruptcy, and Civil Procedure, and the Federal Rules of Evidence. The document contained an incorrect date for the Bankruptcy Rules public hearings scheduled on the proposed amendments.

FOR FURTHER INFORMATION CONTACT: Rebecca A. Womeldorf, Secretary, Committee on Rules of Practice and Procedure of the Judicial Conference of the United States, Thurgood Marshall Federal Judiciary Building, One Columbus Circle NE, Suite 7-240, Washington, DC 20544, Telephone (202) 502-1820.

Correction: In the Federal Register of August 9, 2018, in FR Doc. 2018-17092, on page 39463, in the second column, correct the public hearings scheduled on the proposed amendments to the Bankruptcy Rules to read:

• Bankruptcy Rules in Washington, DC on January 10, 2019, and in Kansas City, Missouri, on January 24, 2019;

Dated: August 24, 2018.
Rebecca A. Womeldorf,
Secretary, Committee on Rules of Practice and Procedure, Judicial Conference of the United States.

[FR Doc. 2018-18851 Filed 8-29-18; 8:45 am]

BILLING CODE 2210-55-P